DEPARTMENT OF TRANSPORTATION

Federal Highway Administration

Environmental Impact Statement: Salt Lake County, UT

AGENCY: Federal Highway Administration (FHWA), DOT.

ACTION: Notice of Intent.

SUMMARY: The FHWA is issuing this notice to advise the public that an Environmental Impact Statement (EIS) will be prepared to address operational, infrastructure, and geometrical deficiencies along Redwood Road from 10400 South to the Bangerter Highway in Salt Lake County, Utah.

FOR FURTHER INFORMATION CONTACT: Sandra Garcia, Project Development Engineer, FHWA, Utah Division, 2520 West 4700 South, Suite 9A, Salt Lake City, UT 84118, Telephone (801) 963-0182; or Lars Anderson, Utah Department of Transportation (UDOT), 2010 South 2760 West, Salt Lake City, UT 84104, Telephone (801) 887-3470.

SUPPLEMENTARY INFORMATION: The project was initiated in 2000 as an Environmental Assessment (EA). However, based on the preliminary findings of technical evaluations and public involvement activities conducted to date, FHWA, in cooperation with the UDOT, determined that an EIS will be prepared in accordance with the National Environmental Policy Act (NEPA). The proposed action is needed to provide for existing and projected traffic demand along a 4.2-mile segment of Redwood Road, from 10400 South to the Bangerter Highway, Salt Lake County, Utah. The proposed study intends to consider no-build (including transit and transportation system management), transportation demand management (TDM), and build alternatives to address the need for improvements along this corridor. Build alternatives will consider upgrading the existing facility from two lanes to five lanes. The limits for the build alternatives are expected to be Bangerter Highway as the southern terminus and 10400 South as the northern terminus.

A public action committee team (PACT) was established during the course of the initial EA process to encourage early public participation from interested parties. Letters describing the proposed action and soliciting comments will be sent to the appropriate Federal, State and local agencies, and to private organizations and citizens who have expressed interest in this project. A public scoping meeting will be held in June 2003, in Salt Lake County, Utah. Additionally, a public hearing will be held in accordance with Federal Highway regulations. Public notice will be published giving the time and place of the scoping meeting and hearing. The draft environmental document will be available for review and comment before the public hearing.

To ensure that the full range of issues related to this proposed action are addressed and all significant issues identified, comments and suggestions are invited from all interested parties. Comments or questions concerning this proposed action and the EIS should be directed to FHWA at the address provided above. (Catalog of Federal Domestic Assistance Program Number 20.205, Highway Planning and Construction. The regulations implementing Executive Order 12372 regarding intergovernmental consultation on Federal programs and activities apply to this program.)

Issued on: May 22, 2003.
Gregory S. Punske,
Environmental Program Manager, Utah Division, Federal Highway Administration, Salt Lake City, Utah.

[FR Doc. 03-13390 Filed 5-28-03; 8:45 am]

BILLING CODE 4910-22-M